COMMISSION ON CIVIL RIGHTS

Sunshine Act Meeting Notice

AGENCY: United States Commission on Civil Rights.

ACTION: Briefing notice.

DATES: Date and Time: Monday, March 16, 2015; 9 a.m.-5 p.m. EST.

ADDRESSES: Place: 1331 Pennsylvania Ave. NW., Suite 1150, Washington, DC.

FOR FURTHER INFORMATION CONTACT: Lenore Ostrowsky, Acting Chief, Public Affairs Unit (202) 376-8591.

Hearing-impaired persons who will attend the briefing and require the services of a sign language interpreter should contact Pamela Dunston at (202) 376-8105 or at signlanguage@usccr.gov at least seven business days before the scheduled date of the meeting.

SUPPLEMENTARY INFORMATION:

This briefing is open to the public.

Topic: Examining Workplace Discrimination Against Lesbian, Gay, Bisexual, and Transgender Americans

I. Introductory Remarks by Chairman Castro

II. Panel I—9 a.m.-10:45 a.m.: General Issues; Speakers' Remarks and Questions from Commissioners

III. Panel II—10:45 a.m.-12:25 p.m.: Economic Issues; Speakers' Remarks and Questions from Commissioners

IV. LUNCH—12:30 p.m.-1:30 p.m.

V. Panel III—1:30 p.m.-3:10 p.m.: Transgender Issues; Speakers' Remarks and Questions from Commissioners

VI. Panel IV—3:10 p.m.-5 p.m.: Religious Exemption Issues; Speakers' Remarks and Questions from Commissioners

VII. Adjourn Briefing—5 p.m.

Dated: February 27, 2015.
David Mussatt,
Chief, Regional Programs Unit.

[FR Doc. 2015-04430 Filed 2-27-15; 11:15 am]

BILLING CODE 6335-01-P